DEPARTMENT OF DEFENSE

GENERAL SERVICES ADMINISTRATION

NATIONAL AERONAUTICS AND SPACE ADMINISTRATION

48 CFR Part 52

Federal Acquisition Regulation; Government Property

CFR Correction

In Title 48 of the Code of Federal Regulations, Chapter 1 (Parts 52 to 99), revised as of October 1, 2012, on page 411, in section 52.249-2, paragraph (i) of the clause is reinstated to read as follows:

52.249-2 Termination for Convenience of the Government (Fixed-Price).

* * * * *

(i) The cost principles and procedures of part 31 of the Federal Acquisition Regulation, in effect on the date of this contract, shall govern all costs claimed, agreed to, or determined under this clause.

* * * * *

[FR Doc. 2013-10955 Filed 5-6-13; 8:45 am]

BILLING CODE 1501-01-D